DEPARTMENT OF HEALTH AND HUMAN SERVICES

Centers for Medicare & Medicaid Services

42 CFR Parts 405, 414, 424, 455, 484, and 498

[CMS-1828-P]

RIN 0938-AV53

Medicare and Medicaid Programs; Calendar Year 2026 Home Health Prospective Payment System (HH PPS) Rate Update; Requirements for the HH Quality Reporting Program and the HH Value-Based Purchasing Expanded Model; Durable Medical Equipment, Prosthetics, Orthotics, and Supplies (DMEPOS) Competitive Bidding Program Updates; DMEPOS Accreditation Requirements; Provider Enrollment; and Other Medicare and Medicaid Policies

Correction

In Proposed Rule Document 2025-12347, appearing on pages 29108 through 29339, in the issue of Wednesday, July 2, 2025, make the following correction:

On page 29108, in the first column, in the DATES section, the entry “December 2, 2023” should read “August 29, 2025”.

[FR Doc. C1-2025-12347 Filed 7-8-25; 8:45 am]

BILLING CODE 0099-10-D